FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

LICENSE NUMBER: 018231F

NAME: All American Cargo-Servicios Nicaraguenses, Corp.

ADDRESS: 1925 NW 21st Terrace, Miami, FL 33142

DATE REVOKED: July 14, 2005.

REASON: Failed to maintain a valid bond.

LICENSE NUMBER: 018861N

NAME: Central American Shipping Agency Inc.

ADDRESS: 55 West Main Street, Freehold, NJ 07728

DATE REVOKED: July 14, 2005.

REASON: Failed to maintain a valid bond.

LICENSE NUMBER: 015913N

NAME: Fastgrow International Co., Inc.

ADDRESS: 2211 South Hacienda Blvd., Suite 216, Hacienda Heights, CA 91745

DATE REVOKED: July 16, 2005.

REASON: Failed to maintain a valid bond.

LICENSE NUMBER: 002433F

NAME: Impex International Brokerage, Inc.

ADDRESS: 8460 NW 30th Terrace, Miami, FL 33122

DATE REVOKED: July 20, 2005.

REASON : Failed to maintain a valid bond.

LICENSE NUMBER: 017339F

NAME: In-House Forwarding, LLC

ADDRESS: 1011 Derussey Road, New London, OH 44851

DATE REVOKED: July 13, 2005.

REASON: Surrendered license voluntarily.

LICENSE NUMBER: 004246F

NAME: International Shipping Link, Inc.

ADDRESS: 2418 W. Devon Avenue, Chicago, IL 60659

DATE REVOKED: February 10, 2005.

REASON: Failed to maintain a valid bond.

LICENSE NUMBER: 017573F

NAME: Kallista USA, LLC

ADDRESS: 7204 NW 84th Avenue, Miami, FL 33166

DATE REVOKED: July 30, 2005.

REASON: Failed to maintain a valid bond.

LICENSE NUMBER: 010835N

NAME: Ki Chul Kim dba Intercontinental Trade & Transportation

ADDRESS: 550 Carson Plaza Drive, Suite 113, Carson, CA 90746

DATE REVOKED: July 9, 2005.

REASON: Failed to maintain a valid bond.

LICENSE NUMBER: 018580NF

NAME: Kingsco Shipping Line, Inc.

ADDRESS: 500 Carson Plaza Drive, Carson, CA 90746

DATE REVOKED: July 27, 2005.

REASON: Surrendered license voluntarily.

LICENSE NUMBER: 018227NF

NAME: Latek Logistics, Inc.

ADDRESS: Ahi Aven Cad. No: 1 Ata Center, Kat: 3 80870 Masjak, Istanbul, Turkey

DATE REVOKED: July 18, 2005.

REASON: Surrendered license voluntarily.

LICENSE NUMBER: 004553F

NAME: Marianas Steamship Agencies, Inc.

ADDRESS: Commercial Port, Apra Harbor, P.O. Box 3219, Agana, Guam 96910

DATE REVOKED: July 14, 2005.

REASON: Failed to maintain a valid bond.

LICENSE NUMBER: 002710NF

NAME: Mario C. Bravo dba Air Waves International Freight Services

ADDRESS: 615 Nash Street, Suite 204, El Segundo, CA 90245

DATE REVOKED: April 2, 2005.

REASON: Failed to maintain valid bonds.

LICENSE NUMBER: 012893N

NAME: Midwest Intermodal Services, Inc.

ADDRESS: 535 E. 14th Avenue, North Kansas City, MO 64113

DATE REVOKED: July 15, 2005.

REASON: Failed to maintain a valid bond.

LICENSE NUMBER: 015688N

NAME: Millennium Logistics Services, Inc.

ADDRESS: 6810 NW 82nd Avenue, Miami, FL 33196

DATE REVOKED: June 10, 2005.

REASON: Failed to maintain a valid bond.

LICENSE NUMBER: 018634N

NAME: Online Shipping Advisers Inc.

ADDRESS: 5783 Rina Court, Fontana, CA 92336

DATE REVOKED: July 26, 2005.

REASON: Failed to maintain a valid bond.

LICENSE NUMBER: 018765N

NAME: PR Logistics Corporation

ADDRESS: Hato Tejas Industrial Park, Street C, Lot #6, Hato Tejas, Bayamon, PR 00950

DATE REVOKED: July 21, 2005.

REASON: Failed to maintain a valid bond.

LICENSE NUMBER: 018893N

NAME: Polish Cargo Center, Inc.

ADDRESS: 2718 Orthodox Street, Philadelphia, PA 19137

DATE REVOKED: June 2, 2005.

REASON: Failed to maintain a valid bond.

LICENSE NUMBER: 000842NF

NAME: Premier Shipping Co., Inc.

ADDRESS: 144 Oakwood Road East, Watchung, NJ 07069

DATE REVOKED: July 26, 2005.

REASON: Failed to maintain valid bonds.

LICENSE NUMBER: 012702N

NAME: S.E.S. International Express, Inc.

ADDRESS: 10105 Doty Avenue, Inglewood, CA 90303

DATE REVOKED: July 20, 2005.

REASON: Failed to maintain a valid bond.

LICENSE NUMBER: 018956N

NAME: SWT Shipping USA, Inc.

ADDRESS: 4034 W 21st Street, Los Angeles, CA 90018

DATE REVOKED: July 30, 2005.

REASON: Failed to maintain a valid bond.

LICENSE NUMBER: 018997NF

NAME: Trident Maritime Transport, LLC

ADDRESS: 13831 SW 59th Street, #208B, Miami, FL 33183

DATE REVOKED: July 21, 2005.

REASON: Failed to maintain valid bonds.

Sandra L. Kusumoto,
Director, Bureau of Certification and Licensing.

[FR Doc. 05-16855 Filed 8-24-05; 8:45 am]

BILLING CODE 6730-01-P